DEPARTMENT OF THE INTERIOR

Bureau of Indian Affairs

Indian Gaming

AGENCY: Bureau of Indian Affairs, Interior.

ACTION: Notice of Approved Tribal-State Class III Gaming Amendment.

SUMMARY: This notice publishes an approval of the Amended and Restated Tribal-State Compact for Regulation of Class III Gaming between the Confederated Tribes of the Umatilla Indian Reservation and the State of Oregon.

DATES: Effective Date: February 19, 2009.

FOR FURTHER INFORMATION CONTACT: Paula Hart, Acting Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands. The Amended and Restated Tribal-State Compact for Regulation of Class III Gaming between the Confederated Tribes of the Umatilla Indian Reservation and the State of Oregon changes various terminologies, such as replacing “ordinance” with “code”; adjusts the major procurement limits; raises the maximum wager limit; and expands the licensing criteria.

Dated: February 2, 2009.
George T. Skibine,
Deputy Assistant Secretary for Policy and Economic Development.

[FR Doc. E9-3501 Filed 2-18-09; 8:45 am]

BILLING CODE 4310-4N-P